DEPARTMENT OF HEALTH AND HUMAN SERVICES

Centers for Disease Control and Prevention

Citizens Advisory Committee on Public Health Service Activities and Research at Department of Energy (DOE) Sites: Savannah River Site Health Effects Subcommittee (SRSHES)

In accordance with section 10(a)(2) of the Federal Advisory Committee Act (Pub. L. 92-463), the Agency for Toxic Substances and Disease Registry (ATSDR) and the Centers for Disease Control and Prevention (CDC) announce the following meeting.

Name: Citizens Advisory Committee on Public Health Service Activities and Research at Department of Energy (DOE) Sites: Savannah River Site Health Effects Subcommittee (SRSHES).

Times and Dates: 8:30 a.m.-4:45 p.m., September 20, 2001. 8:30 a.m.-12 noon, September 21, 2001.

Place: Radisson Hotel Charleston, 170 Lockwood Drive, Charleston, South Carolina 29403, telephone (843) 723-3000, fax (843) 723-0276.

Status: Meeting cancelled. Published in the Federal Register: August 30, 2001 (Volume 66, Number 169) [Notices] [Page 45859-78860] From the Federal Register Online via GPO Access (wais.access.gpo.gov) [DOCID: fr30au01-64]

Contact Person for More Information: Paul G. Renard, Executive Secretary, SRSHES, Radiation Studies Branch, Division of Environmental Hazards and Health Effects, NCEH, CDC, 1600 Clifton Road, NE (E-39), Atlanta, GA 30333, telephone 404/498-1800, fax 404/498-1811.

The Director, Management Analysis and Services Office, has been delegated the authority to sign Federal Register notices pertaining to announcements of meetings and other committee management activities for both CDC and ATSDR.

Dated: September 18, 2001.
John Burckhardt,
Acting Director, Management Analysis and Services Office.

[FR Doc. 01-23744 Filed 9-21-01; 8:45 am]

BILLING CODE 4163-18-P